DEPARTMENT OF HOMELAND SECURITY

Federal Emergency Management Agency

Agency Information Collection Activities: Proposed Collection; Comment Request

AGENCY: Federal Emergency Management Agency, DHS.

ACTION: Notice; 60-day notice and request for comments; Extension, without change, of a currently approved collection, OMB Number 1660-0017, FEMA Form 90-49; FEMA Form 90-91; FEMA Form 90-91A; FEMA Form 90-91B; FEMA Form 90-91C; FEMA Form 90-91D; FEMA Form 90-120; FEMA Form 90-121; FEMA Form 90-123; FEMA Form 90-124; FEMA Form 90-125; FEMA Form 90-126; FEMA Form 90-127; FEMA Form 90-128.

SUMMARY: The Federal Emergency Management Agency, as part of its continuing effort to reduce paperwork and respondent burden, invites the general public and other Federal agencies to take this opportunity to comment on a continuing information collection. In accordance with the Paperwork Reduction Act of 1995, this notice seeks comments concerning the Public Assistance progress report and related forms used to administer the Public Assistance Program.

SUPPLEMENTARY INFORMATION: The Robert T. Stafford Disaster Relief and Emergency Assistance Act, Public Law 93-288, as amended, authorizes the President to provide assistance to state and local government to help them to respond to and recover from a disaster.

Collection of Information

Title: Public Assistance Progress Report and Program Forms.

Type of Information Collection: Extension, without change, of a currently approved collection.

OMB Number: 1660-0017.

Form Numbers: FEMA Form 90-49, Request for Public Assistance (RPA); FEMA Form 90-91, Project Worksheet (PW); FEMA Form 90-91A, PW-Damage Description and Scope of Work Continuation Sheet; FEMA Form 90-91B, PW Cost Estimate Continuation Sheet; FEMA Form 90-91C, PW Maps and Sketches Sheets; FEMA Form 90-91D, PW Photo Sheet; FEMA Form 90-120, Special Considerations Questions; FEMA Form 90-121, PNP Facility Questionnaire; FEMA Form 90-123, Force Account Labor Summary; FEMA Form 90-124, Material Summary Record; FEMA Form 90-125, Rented Equipment Summary Record; FEMA Form 90-126, Contract Work Summary Record; FEMA Form 90-127, Force Account Equipment Summary Record; FEMA Form 90-128, Applicants Benefits Calculation Worksheet.

Abstract: This collection serves as the mechanism to administer the Public Assistance (PA) Program. The report describes the status of project completion, dates, and circumstances that could delay a project. The Progress Report and related forms ensure that FEMA and the State have up-to-date information on PA program grants. The application process contains record-keeping and reporting requirements via mandatory and optional completion of several forms and time-frames. The date of the report is determined jointly by the State and the Disaster Recovery Manager.

Affected Public: State, Local or Tribal Government.

Estimated Total Annual Burden Hours: 134,562 hours.

Annual Hour Burden
Project/activity (survey, form(s), focus group, etc.) | No. of respondents | Frequency of responses | Burden hours per respondent | Annual responses | Total annual burden hours
| (A) | (B) | (C) | D=(AxB) | (CxD)
Mandatory Forms:
FF 90-49, Request for Public Assistance (RPA) | 148 | 53 | 0.16667 | 7,844 | 1,333
FF 90-91, Project Worksheet (PW), FF 90-91A, PW-Damage Description and Scope of Work Continuation Sheet, FF 90-91B, PW Cost Estimate Continuation Sheet, FF 90-91C PW Maps and Sketches Sheets, and FF 90-91D, PW Photo Sheet. ⁽¹⁾ | 694 | 53 | 1.5 | 36,782 | 55,173
FF 90-120, Special Considerations Questions | 658 | 53 | 0.16667 | 34,874 | 5,929
FF 90-128, Applicants Benefits Calculation Worksheet | 148 | 53 | 0.5 | 7,844 | 3,922
FF 91-121, PNP Facility Questionnaire | 20 | 53 | 0.5 | 1,060 | 530
Progress Report (All State/Local PA projects) ⁽²⁾ | 56 | 4 | 100 | 224 | 22,400
Audit of States, Local Governments and Non-Profit Organizations | 56 | 1 | 30 | 56 | 1,680
Total-Mandatory | 1780 |  |  | 88,684 | 90,967
Optional Forms:
FF 90-123, Force Account Labor Summary | 658 | 53 | 0.25 | 34,874 | 8,719
FF 90-124, Material Summary Record | 658 | 53 | 0.25 | 34,874 | 8,719
FF 90-125, Rented Equipment Summary Record | 658 | 53 | 0.25 | 34,874 | 8,719
FF 90-126, Contract Work Summary Record | 658 | 53 | 0.25 | 34,874 | 8,719
FF 90-127, Force Account Equipment Summary Record | 658 | 53 | 0.25 | 34,874 | 8,719
Total-Optional | 3,290 |  |  | 174,370 | 43,595
Total Annual Burden | 5,070 | 535 | 134.25 | 263,054 | 134,562

Estimated Cost: The estimated annualized cost to respondents based on wage rate categories is $3,759,663.00. The estimated annual cost to the Federal Government is $1,510,430.00.

Comments: Written comments are solicited to (a) Evaluate whether the proposed data collection is necessary for the proper performance of the agency, including whether the information will have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before July 14, 2008.

ADDRESSES: Interested persons should submit written comments to Office of Management, Records Management Division, Federal Emergency Management Agency, 500 C Street, SW., Washington, DC 20472, Mail Drop Room 301, 1800 S. Bell Street, Arlington, VA 22202.

FOR FURTHER INFORMATION CONTACT: Contact Clifford Brown, Program Specialist, Public Assistance Grant Program at (202) 646-4136 for additional information. You may contact the Records Management Division for copies of the proposed collection of information at facsimile number (202) 646-3347 or email address: FEMA-Information-Collections@dhs.gov.

Dated: April 28, 2008.
John A. Sharetts-Sullivan,
Director, Records Management Division, Office of Management, Federal Emergency Management Agency, Department of Homeland Security.

[FR Doc. E8-10596 Filed 5-12-08; 8:45 am]

BILLING CODE 9110-10-P